ENVIRONMENTAL PROTECTION AGENCY

[ER-FRL-9054-1]

Environmental Impact Statements; Notice of Availability

Responsible Agency: Office of Federal Activities, General Information 202-564-5632 or https://www.epa.gov/nepa.

Weekly receipt of Environmental Impact Statements (EIS)

Filed November 16, 2020 10 a.m. EST Through November 20, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200238, Draft, USFS, OR, Stella Restoration Project, Comment Period Ends: 01/12/2021, Contact: Elizabeth Bly 541-560-3465.

EIS No. 20200239, Draft, USCG, TX, Texas Gulflink Deepwater Port License Application, Comment Period Ends: 01/11/2021, Contact: Brad McKitrick 202-372-1443.

EIS No. 20200240, Final, USFWS, REG, Regulations Governing Take of Migratory Birds, Review Period Ends: 12/28/2020, Contact: Lesley Kordella 703-963-1729.

EIS No. 20200241, Final, BLM, PRO, Final Programmatic EIS for Fuels Reduction and Rangeland Restoration in the Great Basin, Review Period Ends: 12/28/2020, Contact: Shannon Bassista 208-373-3845.

EIS No. 20200242, Draft, USACE, VA, Surry To Skiffes Creek To Whealton Transmission Project, Comment Period Ends: 01/11/2021, Contact: Randy Steffey 757-201-7579.

Dated: November 20, 2020.
Cindy S. Barger,
Director, NEPA Compliance Division, Office of Federal Activities.

[FR Doc. 2020-26179 Filed 11-25-20; 8:45 am]

BILLING CODE 6560-50-P